DEPARTMENT OF JUSTICE

Notice of Lodging of Consent Decree Pursuant to the Comprehensive Environmental Response Compensation and Liability Act (“CERCLA”)

Notice is hereby given that a proposed consent decree in United States v. JoAnne T. Pollio, as Executrix of the Estate of Richard S. Pollio, et al., Civ. No. 3:00CV02451 (GLG), was lodged with the United States District Court for the District of New Jersey on August 5, 2002, (“Consent Decree”). The Consent Decree will resolve the claims brought against two parties and certain real property by the United States on behalf of the United States Environmental Protection Agency (“EPA”) under Sections 107(a), 107(l) and 113 of the Comprehensive Environmental Response, Compensation, and Liability Act, as amended (“CERCLA”), 42 U.S.C. §§ 9607(a), 9607(l) and 9613, to recover costs incurred by the United States in connection with the Somers Industrial Finishing Corporation Superfund Site (“Site”), located in the Town of Somers, Tolland County, Connecticut. The Consent Decree requires that the settling parties pay $106,000 in reimbursement of past response costs; perform certain maintenance activities at the Site; record a deed notice; and market the Site, providing EPA with the net sale proceeds.

The Department of Justice will receive, for a period of thirty (30) days from the date of this publication, comments relating to the proposed Consent Decree. Comments should be addressed to the Assistant Attorney General, Environment and Natural Resources Division, P.O. Box 7611, U.S. Department of Justice, Washington, DC 20044-7611, and should refer to United States v. JoAnne T. Pollio, as Executrix of Estate of Richard S. Pollio, et al., DOJ Ref. #90-11-3-07339.

The proposed Consent Decree may be examined at the office of the United States Attorney for the District of Connecticut, Connecticut Financial Center, 157 Church St, 23d Floor, New Haven, Connecticut 06510 (contact Assistant United States Attorney, John Hughes); and the Region I Office of the Environmental Protection Agency, 1 Congress Street, Suite 1100, Boston, MA 02114-2023 (contact Senior Enforcement Counsel, Lloyd Selbst). A copy of the proposed Consent Decree may be obtained by mail from the Consent Decree Library, P.O. Box 7611, Washington, DC 20044-7611 or by faxing a request to Tonia Fleetwood, fax no. (202) 514-0097, phone confirmation number (202) 514-1547. In requesting a copy please refer to the referenced case and enclose a check in the amount of $9.00 (25 cents per page reproduction costs) for the Consent, payable to the U.S. Treasury.

Ronald Gluck,
Assistant Section Chief, Environmental Enforcement Section, Environment and Natural Resources Division.

[FR Doc. 02-22445 Filed 9-3-02; 8:45 am]

BILLING CODE 4410-15-M